DEPARTMENT OF AGRICULTURE

Forest Service

Boundary Establishment for Sturgeon National Wild and Scenic River; Hiawatha National Forest; Delta County, MI

AGENCY: Forest Service, USDA.

ACTION: Notice of availability

SUMMARY: In accordance with Section 3(b) of the Wild and Scenic Rivers Act, the USDA Forest Service, Washington Office, is transmitting the final boundary of the Sturgeon National Wild and Scenic River to Congress.

FOR FURTHER INFORMATION CONTACT: Information may be obtained by contacting Jim Ozenberger, Recreation Program Manager, Hiawatha National Forest, 900 US 2 St. Ignace, MI 49781 Telephone 906-643-7900 x 157.

SUPPLEMENTARY INFORMATION: The Sturgeon Wild and Scenic River boundary is available for review at the following offices: USDA Forest Service, Office of the Chief, 1400 Independence Avenue SW., Washington, DC 20024; USDA Forest Service, Eastern Region, Suite 800, 626 East Wisconsin Avenue, Milwaukee, WI, 53202 and; Hiawatha National Forest, 2727 North Lincoln Road, Escanaba, MI 49829. A detailed legal description is available upon request.

The Michigan Wild and Scenic Rivers Act (Pub. L. 102-249) of March 3, 1991, designated the Sturgeon River, Michigan, as a National Wild and Scenic River, to be administered by the Secretary of Agriculture. As specified by law, the boundary will not be effective until ninety days after Congress receives the transmittal.

Dated: February 8, 2012.
Jo Reyer,
Forest Supervisor.

[FR Doc. 2012-3492 Filed 2-14-12; 8:45 am]

BILLING CODE 3410-HE-P